DEPARTMENT OF HEALTH AND HUMAN SERVICES

Administration for Children and Families

Submission for OMB Review; Comment Request

Title: Temporary Assistance for Needy Families (TANF)/National Directory of New Hires (NDNH) Match Results Report.

OMB No.: New Collection.

Description: Section 453(j)(3) of the Social Security Act (the Act) allows for matching between NDNH (maintained by the Federal Office of Child Support Enforcement (OCSE)) and State TANF agencies for the purpose of carrying out responsibilities under programs funded under part A of Title IV of the Act. To assist OCSE and the Office of Family Assistance in measuring savings to the TANF program attributable to the use of NDNH data matches, the State TANF agencies have agreed to provide OCSE with a written description of the performance outputs and outcomes attributable to the State TANF agencies' use of NDNH match results. This information will help OCSE demonstrate how the NDNH supports the President's Management Agenda as well as OCSE's mission and strategic goals.

Respondents: State and TANF Agencies.

Annual Burden Estimates
Instrument | Number of respondents | Number of responses per respondent | Average burden hours per response | Total burden hours
TANF/NDNH Match Results Report | 40 | 4 | .17 | 27

Additional Information Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T_Astrich@omb.eop.gov.

Dated: June 1, 2006.
Robert Sargis,
Reports Clearance Officer.

[FR Doc. 06-5176 Filed 6-6-06; 8:45 am]

BILLING CODE 4184-01-M